DEPARTMENT OF TRANSPORTATION

Federal Aviation Administration

[Summary Notice No. PE-2000-24]

Petitions for Exemption, Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR part 11), this notice contains a summary of certain petitions seeking relief from specified requirements of the Federal Aviation Regulations (14 CFR Ch. I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before August 16, 2000.

ADDRESSES: Send comments on any petition in triplicate to: Federal Aviation Administration, Office of the Chief Counsel, Attn: Rule Docket (AGC-200), Petition Docket No. ____, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Cherie Jack (202) 267-7271, Forest Rawls (202) 267-8033, or Vanessa Wilkins (202) 267-8029 Office of Rulemaking (ARM-1), Federal Aviation Administration, 800 Independence Avenue, SW., Washington, DC 20591.

This notice is published pursuant to paragraphs (c), (e), and (g) of § 11.27 of Part 11 of the Federal Aviation Regulations (14 CFR part 11).

Issued in Washington, DC, on July 21, 2000.
Gary A. Michel,
Acting Assistant Chief Counsel for Regulations.

Dispositions of Petitions

Docket No.: 28574

Petitioner: Federal Express Corporation

Section of the FAR Affected: 14 CFR 121.434(c)(1)(ii)

Description of Relief Sought/Disposition: To permit FedEx to substitute a qualified and authorized check airman in place of an FAA inspector to observe a qualifying pilot in command who is completing the initial or upgrade training specified in § 121.424 during at least one flight leg that includes a takeoff and a landing, subject to certain conditions and limitation.

Grant, 06/29/00, Exemption No. 6473B

Docket No.: 29025

Petitioner: Northwest Airlines, Inc.

Section of the FAR Affected: 14 CFR 121.434(c)(1)(ii)

Description of Relief Sought/Disposition: To permit NWA to substitute a qualified and authorized check airman in place of an FAA inspector to observe a qualifying pilot in command who is completing the initial or upgrade training specified in § 121.424 during at least one flight leg that includes a takeoff and a landing, subject to certain conditions and limitations.

Grant, 06/29/00, Exemption No. 6782A

Docket No.: 26669

Petitioner: Evergreen International Airlines, Inc.

Section of the FAR Affected: 14 CFR 121.583(a)(8)

Description of Relief Sought/Disposition: To permit up to three dependents of Evergreen employees, who are accompanied by an employee sponsor traveling on official business only and are trained and qualified in the operation of emergency equipment on Evergreen's Boeing 747 cargo aircraft, to be added to the list of persons specified in § 121.583(a)(8) that Evergreen is authorized to transport without complying with certain passenger-carrying airplane requirements of part 121.

Grant, 06/29/00, Exemption No. 6442B

Docket No.: 23753

Petitioner: Saudi Arabian Airlines Corporation

Section of the FAR Affected: 14 CFR 61.2, 63.2, and 67.12

Description of Relief Sought/Disposition: To permit Saudia pilots to be examined for and issued U.S. certificates and ratings required to operate its fleet as if it were a certificated U.S. air carrier.

Grant, 06/29/00, Exemption No. 39131

Docket No.: 29861

Petitioner: Confederate Air Force, Inc.

Section of the FAR Affected: 14 CFR 91.315, 91.319(a), 119.5(g), and 119.21(a)

Description of Relief Sought/Disposition: To permit CAF to operate its fleet of former military airplanes that hold either a limited airworthiness certificate or an experimental airworthiness certificate for the carriage of passengers on local educational flights for compensation or hire.

Grant, 06/27/00, Exemption No. 6802A

Docket No.: 22822

Petitioner: T.B.M., Inc. and Butler Aircraft Co.

Section of the FAR Affected: 14 CFR § 91.611

Description of Relief Sought/Disposition: To permit TMB and BAC to conduct ferry flights with one engine inoperative on their McDonnell Douglas DC-6 and DC-7 airplanes without obtaining special flight permit for each flight.

Grant, 06/26/00, Exemption No. 5204E

Docket No.: 28573

Petitioner: FAA, Office of Aviation System Standards (AVN), Flight Inspection Program

Section of the FAR Affected: 14 CFR 135.251 and 135.255(a)

Description of Relief Sought/Disposition: To permit AVN to use the drug and alcohol testing program mandated by Department of Transportation (DOT) Order 3910.1C, “The Drug and Alcohol-Free Departmental Workplace,” for its Flight Inspection Program management, pilot, and maintenance personnel in lieu of the drug and alcohol testing programs mandated by the Federal Aviation Regulations. Grant, 06/26/00, Exemption No. 6484B

Docket No.: 29561

Petitioner: Loriar, Ltd.

Section of the FAR Affected: 14 CFR 121.139(a)

Description of Relief Sought/Disposition: To permit Lorair to operate its Boeing 737-200 (B-737) airplane without carrying the appropriate parts of the maintenance manual aboard the airplane when it is away from its principal base of operations.

Denial, 06/28/00, Exemption No. 7256.

Docket No.: 29657

Petitioner: Constellation Historical Society and Global Aeronautical Foundation

Section of the FAR Affected: 14 CFR 91.529(b)

Description of Relief Sought/Disposition: To permit CHS and GAF FEs to maintain currency in Constellation airplanes using and EBC program.

Grant, 06/28/00, Exemption No. 7255

Docket No.: 29870

Petitioner: American Eagle Airlines, Inc.

Section of the FAR Affected: 14 CFR 121.434(c)(1)(ii)

Description of Relief Sought/Disposition: To permit American Eagle to substitute a qualified and authorized check airman in place of an FAA inspector to observe a qualifying PIC who is completing initial or upgrade training specified in §121.424 during at least on flight leg that includes a takeoff and a landing.

Grant, 06/14/00, Exemption No. 7252

Docket No.: 28582

Petitioner: Atlas Air, Inc.

Section of the FAR Affected: 14 CFR 121.583(a)(8)

Description of Relief Sought/Disposition: To permit Atlas Air, Inc., to (1) operate B-747-400 series cargo airplanes under the terms of this exemption, (2) revising condition No. 7 to include B-747-400 series cargo airplanes, and and (3) extending its July, 31, 2000, termination date to July 31, 2002, unless sooner superseded or rescinded.

Grant, 06/14/00, Exemption No. 6487B

Docket No.: 28206

Petitioner: Silver Moon Aviation

Section of the FAR Affected: 14 CFR 135.143(c)(2)

Description of Relief Sought/Disposition: To permit SMA to operate certain aircraft under part 135 without a TSO-C112 (Mode S) transponder installed in the aircraft.

Grant, 05/30/00, Exemption No. 6122B

Docket No.: 29955

Petitioner: Mr. Jonathan D. Ross

Section of the FAR Affected: 14 CFR 45.21(a), 45.25, and 45.29(a) and (b)

Description of Relief Sought/Disposition: To permit Mr. Jonathan D. Ross to operate his RV-8 aircraft (Registration Nol. 207RV; Serial No. 80094) displaying 3-inch-high nationality and registration markings on the vertical tail surface and 18-inch-high markings on the top of the right wing and the bottom of the left wing instead of the 12-inch-high markings required by the regulation.

Denial, 5/23/00, Exemption No. 7230.

[FR Doc. 00-18895 Filed 7-25-00; 8:45 am]

BILLING CODE 4910-13-M